FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than March 13, 2001.

A. Federal Reserve Bank of Chicago (Phillip Jackson, Applications Officer) 230 South LaSalle Street, Chicago, Illinois 60690-1414:

1. Bank One Corporation, Chicago, Illinois; to engage de novo in expanding its community development activities and to expand to not more than 9.9 percent of its total consolidated capital stock and surplus, its investments in previously approved permissible nonbanking activities of its subsidiaries, which consist of promoting community welfare by i) arranging, investing in and making loans to entities for the financing of low-income housing eligible for Federal income tax credits under Section 42 of the Internal Revenue Code (Section 42 Housing Projects) and providing advice to customers in connection with the arranging and financing of entities engaged in Section 42 Housing Projects; ii) advising, arranging, investing in and making loans to community development corporations or directly to others to finance projects that promote community welfare or development; and iii) providing financial and technical advice and training to customers developing, owning, or managing Section 42 Housing Projects or other projects that promote community welfare or development and thereby engage in the nonbanking activity of community development activities, pursuant to §§ 225.28(b)(12)(i) and (ii) of Regulation Y.

Board of Governors of the Federal Reserve System, February 21, 2001.
Robert deV. Frierson
Associate Secretary of the Board.

[FR Doc. 01-4714 Filed 2-26-01; 8:45 am]

BILLING CODE 6210-01-S